DEPARTMENT OF THE INTERIOR

Bureau of Land Management

[BLM_CA_FRN_MO4500169857]

Notice of Availability of the Record of Decision for the Whitewater River Groundwater Replenishment Facility, Riverside County, CA

AGENCY: Bureau of Land Management, Interior.

ACTION: Notice of availability.

SUMMARY: In accordance with the National Environmental Policy Act of 1969, as amended, and the Federal Land Policy and Management Act of 1976, as amended, the Bureau of Land Management (BLM) has prepared the Record of Decision (ROD) for the Whitewater River Groundwater Replenishment Facility located in the Palm Springs-South Coast Field Office. The ROD constitutes the decision of the BLM.

DATES: The Palm Springs-South Coast Field Manager signed the ROD on March 14, 2023. Issuance of the ROD initiates a 30-day appeal period ending April 17, 2023.

ADDRESSES: The ROD is available via the internet at https://go.usa.gov/x6KsM. Copies of the Whitewater River Groundwater Replenishment Facility ROD are available at the Palm Springs South Coast Field Office at 1201 Bird Center Drive, Palm Springs, CA 92262. Appeals must be submitted to this address, in accordance with the regulations contained in 43 CFR part 4.

FOR FURTHER INFORMATION CONTACT: Brandon G. Anderson, Assistant District Manager, telephone: (760) 422-9120; email: bganderson@blm.gov; address Bureau of Land Management, 1201 Bird Center Drive, Palm Springs, CA 92262. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Coachella Valley Water District (CVWD) applied for a right-of-way (ROW) grant from the BLM for its existing groundwater replenishment facility in North Palm Springs that is partially located on public lands managed by the BLM. The BLM issued the Final Environmental Impact Statement on August 12, 2022. After careful consideration of the environmental impacts, the BLM selects Alternative 1: Proposed Action (Selected Alternative). Consistent with 43 CFR 2801.10, this decision remains in effect pending appeal. The Selected Alternative would issue CVWD a ROW grant for existing water control berms, intake structures, conveyance structures, and 19 infiltration ponds over approximately 690 acres of BLM-managed public lands. The facility also includes 1,480 acres of lands held by CVWD. The Selected Alternative increases water recharge volumes to 511,000-acre feet per year of water, which represents the full annual capacity of the facility.

This decision may be appealed to the Interior Board of Land Appeals (IBLA), Office of the Secretary, in accordance with the regulations contained in 43 CFR part 4. If an appeal is filed, your notice of appeal must be filed as noted in the ADDRESSES section within 30 days from receipt of this decision. The appellant has the burden of showing that the decision appealed from is in error. Copies of the notice of appeal and any associated petition for a stay must also be submitted to each party named in this decision, to the IBLA, and to the Regional Solicitor, Pacific Southwest Region, U.S. Department of the Interior, 2800 Cottage Way, E-1712, Sacramento, CA 95825 (see 43 CFR 4.413) at the same time the original documents are filed with this office. If a statement of reasons for the appeal is not included with the notice, it must be filed with the Interior Board of Land Appeals, Office of Hearings and Appeals, U.S. Department of the Interior, 801 North Quincy St., Suite 300, Arlington, VA 22203 within 30 days after the notice of appeal is filed with the Authorized Officer.

(Authority: 40 CFR 1506.6)

Karen E. Mouritsen,
BLM California State Director.

[FR Doc. 2023-05381 Filed 3-15-23; 8:45 am]

BILLING CODE 4331-14-P